DEPARTMENT OF THE INTERIOR

Bureau of Indian Affairs

[189A2100DD/AAKC001030/A0A501010.999900]

Proclaiming Certain Lands as Reservation for the Pueblo of Pojoaque, New Mexico

AGENCY: Bureau of Indian Affairs, Interior.

ACTION: Notice.

SUMMARY: This notice informs the public that the Principal Deputy Assistant Secretary—Indian Affairs, exercising the authority of the Assistant Secretary—Indian Affairs, proclaimed approximately 323.763 acres, more or less, an addition to the reservation of the Pueblo of Pojoaque, New Mexico on March 12, 2018.

FOR FURTHER INFORMATION CONTACT: Ms. Sharlene M. Round Face, Bureau of Indian Affairs, Division of Real Estate Services, 1849 C Street NW, MS-4642-MIB, Washington, DC 20240, telephone (202) 208-3615.

SUPPLEMENTARY INFORMATION: This notice is published in the exercise of authority delegated by the Secretary of the Interior to the Assistant Secretary—Indian Affairs by part 209 of the Departmental Manual. A proclamation was issued according to the Act of June 18, 1934 (48 Stat. 986; 25 U.S.C. 5110) for the lands described below. The land was proclaimed to be the Pueblo of Pojoaque, New Mexico Reservation for the Pueblo of Pojoaque, New Mexico, Santa Fe County and State of New Mexico.

Pueblo of Pojoaque, New Mexico Reservation for the Pueblo of Pojoaque, New Mexico, One Parcel

New Mexico Principal Meridian, Santa Fe County, New Mexico, Legal Description Containing 323.763 Acres, More or Less

Santa Fe Downs (710-T-126)

A tract of land lying, being and situate within Sections 26 and 27, Township 16 North, Range 8 East, N.M.P.M., Santa Fe County, New Mexico, being more particularly described as follows:

Beginning at the Northeast corner of the herein described tract of land, from which point, the corner common to Sections 22, 23, 26 and 27, Township 16 North, Range 8 East, N.M.P.M., bears North 89 deg. 54′34″ East, 832.50 feet; thence from said point and place of beginning, South 00 deg. 37′41″ East, 471.87 feet; thence South 62 deg. 29′08″ East, 166.31 feet to the beginning of circular non-tangent curve concave to the Southwest (Delta = 27 deg. 44′18″; Radius = 1,966.52 feet; Chord = South 48 deg. 36′59″ East 942.77 feet); thence along said curve, an arc length of 952.04 feet; thence South 34 deg. 43′18″ East, 558.41 feet to the beginning of a circular non-tangent curve concave to the Northeast (Delta = 23 deg. 04′48″; Radius = 1,048.02 feet; Chord = South 46 deg. 15′48″ East—419.32 feet); thence along said curve, an arc length of 422.16 feet; thence South 57 deg. 39′00″ East, 39.40 feet to the beginning of a circular non-tangent circular curve concave to the Southwest (Delta = 10 deg. 22′05″; Radius = 3,646.82 feet; Chord = South 52 deg. 41′23″ East—659.02 feet); thence along said curve, an arc length of 659.92 feet; thence South 47 deg. 51′53″ East, 251.32 feet to the Southeast corner of said Tract, said corner also being a point on the North right-of-way line of Interstate Highway 25 Frontage Road; thence along said right-of-way, South 50 deg. 51′48″ West, 678.64 feet; thence South 50 deg. 53′51″ West, 699.82 feet; thence South 50 deg. 54′15″ West, 1,176.41 feet; thence South 51 deg. 41′57″ West, 1,161.88 feet to the Southwest corner of said tract, said corner also being the point of divergence from said right-of-way line of Interstate Highway 25 Frontage Road; thence North 38 deg. 48′03″ West, 1,199.26 feet; thence South 89 deg. 22′35″ West, 590.28 feet; thence North 00 deg. 15′21″ West, 1,237.00 feet; thence South 89 deg. 23′41″ West, 1,126.03 feet; thence North 00 deg. 12′57″ West, 1,328.60 feet; thence North 89 deg. 03′15″ East, 1,296.20 feet; thence North 00 deg. 15′37″ West, 1,335.46 feet to the Northwest corner of said tract; thence North 89 deg. 54′34″ East, 1,857.64 feet to the point and place of beginning.

Excepting the following described landfill area:

Beginning at the most Northerly corner of the herein described tract of land, from which point, the corner common to Sections 22, 23, 26 and 27, Township 16 North, Range 8 East, N.M.P.M., bears North 58 deg. 24′00″ East, 3,758.16 feet; thence from said point and place of beginning, South 44 deg. 49′47″ East, 370.35 feet to the most Easterly corner of said tract; thence South 46 deg. 15′56″ West, 420.10 feet to the most Southerly corner of said tract; thence North 67 deg. 52′16″ West, 397.46 feet to the most Westerly corner of said tract; thence North 45 deg. 30′42″ East, 575.60 feet to the point and place of beginning.

All as shown on plat of survey by Landmark Surveys as Job No. L-374, dated September 3, 1993 and Field Inspection May 10, 1994, which was filed in the Office of the County Clerk, Santa Fe County, New Mexico on May 13, 1994 in Plat Book 274, page 017, as Document No. 862,670.

The above-described lands contain a total of 323.763 acres, more or less, which are subject to all valid rights, reservations, rights-of-way, and easements of record.

This proclamation does not affect title to the lands described above, nor does it affect any valid existing easements for public roads and highways, public utilities, railroads, and pipelines or any other valid easements or rights-of-way or reservations of record.

Dated: March 12, 2018.
John Tahsuda,
Principal Deputy Assistant Secretary—Indian Affairs, Exercising the Authority of the Assistant Secretary—Indian Affairs.

[FR Doc. 2018-08996 Filed 4-27-18; 8:45 am]

BILLING CODE 4337-15-P